DEPARTMENT OF THE INTERIOR

Fish and Wildlife Service

50 CFR Part 17

[Docket No. FWS-R4-ES-2020-0109; FF09E22000 FXES11130900000 223]

RIN 1018-BC98

Endangered and Threatened Wildlife and Plants; Removal of 23 Extinct Species From the Lists of Endangered and Threatened Wildlife and Plants; Ivory-Billed Woodpecker; Correction

AGENCY: Fish and Wildlife Service, Interior.

ACTION: Proposed rule; reopening of comment period and announcement of public hearing; correction.

SUMMARY: This document corrects a date in a document that reopened a comment period on a proposed rule and announced a public hearing. On January 11, 2022, we, the U.S. Fish and Wildlife Service, announced that we are reopening the public comment period on our September 30, 2021, proposal to remove 23 species from the Federal Lists of Endangered and Threatened Wildlife and Plants (List) due to extinction. We also announced a public hearing on the proposal to remove the ivory-billed woodpecker from the List and stated that the comment period reopening is only for the ivory-billed woodpecker proposed delisting. The document stated that the public hearing would take place on January 26, 2021. The correct date is January 26, 2022.

DATES: January 14, 2022.

FOR FURTHER INFORMATION CONTACT: Elizabeth Maclin, Branch of Delisting and Foreign Species, Ecological Services Program, U.S. Fish and Wildlife Service, 5275 Leesburg Pike, MS: ES, Falls Church, VA 22041; telephone 703-358-2646. If you use a telecommunications device for the deaf, call the Federal Relay Service at 800-877-8339.

SUPPLEMENTARY INFORMATION:

Correction

In proposed rule document FR Doc. 2022-00322 in the issue of January 11, 2022, on page 1390 in the third column, make the following correction in DATES:

Public hearing: On January 26, 2022, we will hold a public hearing on the ivory-billed woodpecker proposed delisting from 6:00 to 7:30 p.m., Central Time, using the Zoom platform (for more information, see Public Hearing, below).

Madonna Baucum,
Regulations and Policy Chief, Division of Policy, Economics, Risk Management, and Analytics, Joint Administrative Operations, U.S. Fish and Wildlife Service.

[FR Doc. 2022-00658 Filed 1-13-22; 8:45 am]

BILLING CODE 4333-15-P